DEPARTMENT OF THE TREASURY

Internal Revenue Service

Members of Senior Executive Service Performance Review Boards; Correction

AGENCY: Internal Revenue Service (IRS), Treasury.

ACTION: Correction to notice.

SUMMARY: This document contains a correction to a notice that was published in the Federal Register on Wednesday, August 18, 2010 (75 FR 51168) providing the list of names of those IRS employees who will serve as members on IRS' Fiscal Year 2010 Senior Executive Service (SES) Performance Review Boards.

DATES: This notice is effective on September 1, 2010.

FOR FURTHER INFORMATION CONTACT: Sharnetta Walton, 1111 Constitution Avenue, NW., Room 2403, Washington, DC 20224, (202) 283-6246.

SUPPLEMENTARY INFORMATION:

Background

The notice that is the subject of this correction is pursuant to 5 U.S.C. 4314(c)(4) and announces the appointment of members to the Internal Revenue Service's SES Performance Review Boards.

Need for Correction

As published, the notice for Members of Senior Executive Service Performance Review Boards contains an error that may prove to be misleading and is in need of clarification.

Correction of Publication

Accordingly, the publication of the notice for Members of Senior Executive Service Performance Review Boards, which was the subject of FR Doc. 2010-20331, is corrected as follows:

On page 51169, column 1, in the preamble, under the caption SUPPLEMENTARY INFORMATION, the language “Charles Hunter, Director of Field Operations (CI)” is inserted between lines 16 and 17 of the column.

LaNita Van Dyke,
Chief, Publications and Regulations Branch, Legal Processing Division, Associate Chief Counsel, (Procedure and Administration).

[FR Doc. 2010-21272 Filed 8-25-10; 8:45 am]

BILLING CODE 4830-01-P